DEPARTMENT OF AGRICULTURE

Animal and Plant Health Inspection Service

[Docket No. APHIS-2014-0021]

Notice of Decision To Authorize the Importation of Chipilin Leaves and Edible Flowers of Chufle, Izote, and Pacaya From Guatemala Into the Continental United States

AGENCY: Animal and Plant Health Inspection Service, USDA.

ACTION: Notice.

SUMMARY: We are advising the public of our decision to authorize the importation of chipilin leaves and edible flowers of chufle, izote, and pacaya from Guatemala into the continental United States. Based on the findings of pest risk analyses, which we made available to the public to review and comment through a previous notice, we have concluded that the application of one or more designated phytosanitary measures will be sufficient to mitigate the risks of introducing or disseminating plant pests or noxious weeds via the importation of chipilin leaves and edible flowers of chufle, izote, and pacaya from Guatemala.

DATES: Effective Date: October 16, 2014.

FOR FURTHER INFORMATION CONTACT: Ms. Claudia Ferguson, Senior Regulatory Policy Specialist, Regulations, Permits and Manuals, PPQ, APHIS, 4700 River Road Unit 133, Riverdale, MD 20737-1231; (301) 851-2352.

SUPPLEMENTARY INFORMATION: Under the regulations in “Subpart—Fruits and Vegetables” (7 CFR 319.56-1 through 319.56-71, referred to below as the regulations), the Animal and Plant Health Inspection Service (APHIS) prohibits or restricts the importation of fruits and vegetables into the United States from certain parts of the world to prevent plant pests from being introduced into or disseminated within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may begin issuing permits for importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on July 8, 2014 (79 FR 38484, Docket No. APHIS-2014-0021), in which we announced the availability, for review and comment, of pest risk assessments that evaluate the risks associated with the importation into the continental United States of chipilin leaves and edible flowers of chufle, izote, and pacaya from Guatemala and risk management documents prepared to identify phytosanitary measures that could be applied to the commodities to mitigate the pest risk.

¹ To view the notice and risk documents, go to http://www.regulations.gov/#!docketDetail;D=APHIS-2014-0021.

We solicited comments on the pest risk assessments and risk management documents for 60 days ending on September 8, 2014. We did not receive any comments by that date.

Therefore, in accordance with § 319.56-4(c)(2)(ii), we are announcing our decision to authorize the importation of chipilin leaves and edible flowers of chufle, izote, and pacaya from Guatemala into the continental United States subject to the following phytosanitary measures:

• The commodities must be imported into the continental United States in commercial consignments only.

• Each consignment must be accompanied by a phytosanitary certificate issued by the national plant protection organization of Guatemala.

• Each consignment is subject to inspection upon arrival at the port of entry to the United States.

These conditions will be listed in the Fruits and Vegetables Import Requirements database (available at http://www.aphis.usda.gov/favir). In addition to these specific measures, chipilin leaves and edible flowers of chufle, izote, and pacaya from Guatemala will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 9th day of October 2014.
Kevin Shea,
Administrator, Animal and Plant Health Inspection Service.

[FR Doc. 2014-24634 Filed 10-15-14; 8:45 am]

BILLING CODE 3410-34-P